DEPARTMENT OF JUSTICE

[OMB Number 1110-0057]

Agency Information Collection Activities; Proposed eCollection eComments Requested; Extension of a Currently Approved Collection; Uniform Crime Reporting Instrument Pretesting and Burden Estimation Generic Clearance

AGENCY: Federal Bureau of Investigation, Department of Justice.

ACTION: 30-Day notice.

SUMMARY: The Department of Justice, Federal Bureau of Investigation, Criminal Justice Information Services Division, will be submitting the following information collection request to the Office of Management and Budget for review and approval in accordance with the Paperwork Reduction Act of 1995.

DATES: Comments are encouraged and will be accepted for 30 days until December 4, 2020.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the Federal Bureau of Investigation, including whether the information will have practical utility;

—Evaluate the accuracy of the agency's estimate of burden, of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: Uniform Crime Reporting Instrument Pretesting and Burden Estimation Generic Clearance.

3. The agency form number, if any, and the applicable component of the Department sponsoring the collection: The form number is 1110-0057. The applicable component within the Department of Justice is the Criminal Justice Information Services Division, Federal Bureau of Investigation.

4. Affected public who will be asked or required to respond, as well as a brief abstract:

Primary: Federal, state, county, local, and tribal law enforcement agencies.

Abstract: This clearance provides the Federal Bureau of Investigation Uniform Crime Reporting Program the ability to conduct pretests, which evaluate the validity and reliability of information collection instruments, and determine the level of burden state and local agencies have in reporting crime data to the Federal Bureau of Investigation. The Paperwork Reduction Act only allows for nine or fewer respondents in the collection of information, such as pretesting activities. This clearance request expands the pretesting sample to 350 people for each of the twelve information collections administered by the Federal Bureau of Investigation Uniform Crime Reporting Program. Further, the clearance will allow for a brief five minute cost and burden assessment for the 18,000 law enforcement agencies participating in the Federal Bureau of Investigation Uniform Crime Reporting Program.

5. An estimate of the total number of respondents and the amount of time estimated for an average respondent to respond: Uniform Crime Reporting Participation Burden Estimation: There are approximately 18,000 law enforcement respondents; calculated estimates indicate five minutes per submission. Uniform Crime Reporting Form Pretesting: There are approximately 350 respondents; calculated estimates indicate one hour per pretest.

6. An estimate of the total public burden (in hours) associated with the collection: There are approximately 1,850 hours, annual burden, associated with this information collection.

If additional information is required contact: Melody Braswell, Department Clearance Officer, United States Department of Justice, Justice Management Division, Policy and Planning Staff, Two Constitution Square, 145 N Street NE, 3E.405A, Washington, DC 20530.

Dated: September 29, 2020.
Melody Braswell,
Department Clearance Officer for PRA, U.S. Department of Justice.

[FR Doc. 2020-21913 Filed 10-2-20; 8:45 am]

BILLING CODE 4410-02-P